GENERAL SERVICES ADMINISTRATION

48 CFR Parts 511, 516, 532, 538, 546, and 552

[GSAR Amendment 2008-02; GSAR Case 2008-G517; (Change 23); Docket 2008-0007; Sequence 01]

RIN 3090-AI68

General Services Administration Acquisition Regulation; GSAR Case 2008-G517; Cooperative Purchasing-Acquisition of Security and Law Enforcement Related Goods and Services (Schedule 84) by State and Local Governments Through Federal Supply Schedules

AGENCIES: General Services Administration (GSA), Office of the Chief Acquisition Officer.

ACTION: Interim rule with request for comments.

SUMMARY: The General Services Administration (GSA) is amending the General Services Administration Acquisition Regulation (GSAR) to implement Pub.L. 110-248, The Local Preparedness Acquisition Act. The Act authorizes the Administrator of General Services to provide for the use by State or local governments of Federal Supply Schedules of the General Services Administration (GSA) for alarm and signal systems, facility management systems, firefighting and rescue equipment, law enforcement and security equipment, marine craft and related equipment, special purpose clothing, and related services (as contained in Federal supply classification code group 84 or any amended or subsequent version of that Federal supply classification group).

DATES: Effective Date: September 19, 2008.

Applicability Date: This amendment applies to solicitations and existing contracts for Schedule 84, as defined in GSAM 538.7001, Definitions, Schedule 84. Further, this amendment applies to contracts awarded after the effective date of this rule for Schedule 84. Existing Schedule 84 contracts shall be modified by mutual agreement of both parties.

Comment Date: Interested parties should submit written comments to the Regulatory Secretariat on or before November 18, 2008 to be considered in the formulation of a final rule.

ADDRESSES: Submit comments identified by GSAR case 2008-G517, by any of the following methods:

• Regulations.gov: http://www.regulations.gov. Submit comments via the Federal eRulemaking portal by inputting “GSAR case 2008-G517” under the heading “Comment or Submission”. Select the link “Send a Comment or Submission” that corresponds with GSAR case 2008-G517. Follow the instructions provided to complete the “Public Comment and Submission Form”. Please include your name, company name (if any), and “GSAR case 2008-G517” on your attached document.

• Fax: 202-501-4067.

• Mail: General Services Administration, Regulatory Secretariat (VPR), 1800 F Street, NW, Room 4035, ATTN: Laurieann Duarte, Washington, DC 20405.

Instructions: Please submit comments only and cite GSAR case 2008-G517, in all correspondence related to this case. All comments received will be posted without change to http://www.regulations.gov, including any personal and/or business confidential information provided.

FOR FURTHER INFORMATION CONTACT: Mr. William Clark, Procurement Analyst, at (202) 219-1813 for clarification of content. Please cite GSAR case 2008-G517. For information pertaining to status or publication schedules, contact the Regulatory Secretariat at (202) 501-4755.

SUPPLEMENTARY INFORMATION:

A. Background

This interim rule amends GSAM Parts 511, 516, 532, 538, 546, and 552 to implement Pub.L. 110-248, The Local Preparedness Acquisition Act. The public law amends the “Cooperative Purchasing” provisions of the Federal Property and Administrative Services Act where the Administrator of GSA provides States and localities access to certain items offered through GSA's supply schedules. The Public Law amends 40 U.S.C. 502(c) that allows, to the extent authorized by the Administrator, a State or local government to use Federal Supply Schedules of the General Services Administration to purchase alarm and signal systems, facility management systems, firefighting and rescue equipment, law enforcement and security equipment, marine craft and related equipment, special purpose clothing, and related services (as contained in Federal supply classification code group 84 or any amended or subsequent version of that Federal supply classification group).

The GSA Schedules Program is also known as the Federal Supply Schedule (FSS) or Multiple Award Schedules (MAS) Program. Under the FSS/MAS Program, Federal agencies are able to purchase goods and services under contracts that are pre-negotiated by GSA. These contracts cover more than 11 million commercial goods and services and are listed in broad categories known as Schedules. Under current law, State and local governments are authorized to purchase goods and services off the GSA Schedules, in limited circumstances, under special procurement authority. This interim rule allows for State and local purchasing under GSA Schedule 84, which covers products and services related to law enforcement and security. Schedule 84 includes items such as fire alarm systems, door entry control devices, intrusion detection sensors, bomb detection equipment, perimeter security and video surveillance systems. Use of the GSA Schedules allows State and local governments to reduce time and resources spent on negotiating and awarding contracts for needed goods and services and gives them access to the pre-negotiated prices on the Federal Supply Schedules. Access to Schedule 84 will help State and local governments meet growing homeland security and public safety needs.

Cooperative Purchasing was added to the GSAR in 2003, covering automated data processing equipment (including firmware, software, supplies, support equipment, and services) (Schedule 70). A proposed rule was published in the Federal Register at 68 FR 3220, January 23, 2003; an interim rule was published in the Federal Register at 68 FR 24372, May 7, 2003; and a final rule was published in the Federal Register at 69 FR 28063, May 18, 2004. The rule authorized State and local governments to procure IT products and services from Schedule 70, Information Technology and the Consolidated Schedule, contracts containing the IT Special Item Numbers (SINs).

A related interim rule on Recovery Purchasing was published in the Federal Register at 72 FR 4649, February 1, 2007. That interim rule implemented Section 833 of P.L. 109-364, which authorized the Administrator of General Services to provide to State and local governments the use of Federal Supply Schedules of the GSA for purchase of products and services to be used to facilitate recovery from a major disaster, terrorism, or nuclear, biological, chemical, or radiological attack. State and local governments are authorized to use Federal Supply Schedules to procure products and services determined by the Secretary of Homeland Security to facilitate recovery from major disasters, terrorism, or nuclear, biological, chemical, or radiological attack. This Recovery Purchasing authority was limited to GSA and the Department of Veterans Affairs (VA) Federal Supply Schedule contracts and does not include any other GSA programs.

Additional information about Cooperative Purchasing and on Recovery Purchasing is available in GSA's Schedules e-Library at http://www.gsaelibrary.gsa.gov.

Schedule 84 Special Item Numbers

Alarm and Signal Systems, Facility Management Systems, Professional Security/Facility Management Services and Protective Service Occupations (Guard Services).

SIN 246 20 1 - Miscellaneous Alarm and Signal Systems. Process Monitoring/Fault Reporting Devices or Systems.

SIN 246 20 2—Miscellaneous Alarm and Signal System Hazard Indicating alarm Devices or Systems for the Detection of Toxic Gases, Flammable Gases.

SIN 246 20 3 - Miscellaneous Alarm and Signal Systems. Audible/Visual Warning/Signaling Devices.

SIN 246 20 4 - Miscellaneous Alarm and Signal Systems. Warning System Devices (Patient/Detainees).

SIN 246 23 - Anti-Theft Material Alarm Control Systems for Detection of Property.

SIN 246 25 - Fire Alarm Systems.

SIN 246 35 1 - Access Control Systems, Door entry control by card access, magnetic proximity.

SIN 246 35 2 - Access Control Systems, Door entry control by touch access, dial, digital, keyboard, keypad.

SIN 246 35 3 - Access Control Systems, Parking Access Control.

SIN 246 35 4 - Access Control Systems, Emergency exit door access/alarm systems for security and/or fire safety.

SIN 246 35 5 - Access Control Systems - Vehicle Arrest/Security Barrier/Barricade/Bollard Systems, Decorative Barrier Planters.

SIN 246 35 6 - Other Access Control Systems.

SIN 246 36 - Locking Devices.

SIN 246 40 - Intrusion Alarms and Signal Systems.

SIN 246 42 1 - Facility Management Systems (Including Accessories and Repair Parts. Computerized Systems for Surveillance, Monitoring, Controlling, Signaling and Reporting Multiple Functions. Security Functions (i.e., access control, fire detection, intrusion, etc.).

SIN 246 42 2 - Facility Management Systems (Including Accessories and Repair Parts. Computerized Systems for Surveillance, Monitoring, Controlling, Signaling and Reporting Multiple Functions. Energy and Facility Management Functions and Services, Building Automation Control systems (including lighting, HVAC controls and sensors), Building Comfort Systems (including heating, ventilation and air conditioning, chillers).

SIN 246 42 3 - Facility Management Systems - including accessories and repair parts. - Computerized systems for surveillance, monitoring, controlling, signaling and reporting multiple functions. Systems capable of both security functions and energy management functions.

SIN 246 43 - Perimeter Security/Detection Systems.

SIN 246 50 - Ancillary Services relating to Security/Facility Management Systems.

SIN 246 51 - Installation of Security/Facility Management Systems Requiring Construction.

SIN 246 52 - Professional Security/Facility Management Services.

SIN 246 53 - Facility Management and Energy Solutions.

SIN 246 54 - Protective Service Occupations.

SIN 246 60 1—Security Systems Integration and Design Services.

SIN 246 60 2—Security Management Support Services.

SIN 246 60 3—Security System Life Cycle Support.

SIN 246 60 4—Total Solution Support Products.

SIN 246 99 - Introduction of New Products/Services relating to Alarm and Signal Systems/Facility

Firefighting and Rescue Equipment, Urban and Wildland.

SIN 465 8—Flood Control Equipment—Traditional and Alternative Approaches.

SIN 465 9—Medical/Rescue Kits.

SIN 465 10 - Emergency Patient Transportation and Immobilization Devices.

SIN 465 11 - Fire Extinguishing/Suppressing Products, Retardant, Foams and Equipment.

SIN 465 17 - Firefighting Distress/Signal Devices and Heat Sensing Devices.

SIN 465 19 - Firefighting and Rescue Tools, Equipment and Accessories.

SIN 465 22 - Breathing Air Equipment, Inhalator Devices, Respiratory Protection Products, Related Support Items and Solutions.

SIN 567 15 - Hoses, Valves, Fittings, Nozzles, Couplings and Related Accessories.

SIN 567 4 - Helicopter Equipment and Products for Search and Rescue and Firefighting Applications.

SIN 567 8 - Burning Equipment.

SIN 567 99 - Introduction of New Products and Services relating to Firefighting and Rescue Equipment.

Law Enforcement and Security Equipment Supplies and Services.

SIN 426 1A - Miscellaneous Personal Equipment.

SIN 426 1B - Body Armor.

SIN 426 1C—Helmets.

SIN 426 1D - Restraining Equipment.

SIN 426 1G - Miscellaneous Non-Personal Law Enforcement Equipment.

SIN 426 2A - Canine Training and Handling Equipment, Canine Search and Detection.

SIN 426 3A - Emergency Signal Systems.

SIN 426 3B - In-Vehicle Protection and Restraint Systems.

SIN 426 4C - Night Vision Equipment.

SIN 426 4D - Alcohol Detection Kits and Devices.

SIN 426 4E - Bomb Disposal and Hazardous Material Protective and Detective Equipment.

SIN 426 4F - Emergency Preparedness and First Responder Equipment, Training and Services.

SIN 426 4G - Firearms Storage, Securing and Cleaning Equipment; Unloading Stations; Bullet Recovery Systems and Gun Racks.

SIN 426 4J - Target Systems/Target Range Accessories.

SIN 426 4K - Fingerprinting/Palmprinting (Taking and Detection) and Evidential Casting Materials.

SIN 426 4L - Fingerprinting/Palmprinting (Taking and Detection) and Evidential Casting Materials.

SIN 426 4M - Drug Testing Equipment and Kits.

SIN 426 4N - Criminal Investigative Equipment and Supplies.

SIN 426 4Q - Vehicle Monitor (Tracking) Systems.

SIN 426 4S - Surveillance Systems.

SIN 426 5A - Aircraft Armoring and Ancillary Services.

SIN 426 5B—Armored Vehicles, Vehicle Armoring Services, Wheeled Vehicles.

SIN 426 6—Law Enforcement and Security Training.

SIN 426 7—Professional Law Enforcement Services.

SIN 426 99 - Introduction of New Services/Products related to Law Enforcement and Security Equipment.

Marine Craft and Equipment.

SIN 260 01 - Boats, Powered.

SIN 260 03 - Boats, Nonpowered.

SIN 260 06 - Boats, Inflatable, Powered and Nonpowered.

SIN 260 09 - Inboard and Outboard Engines, Marine Diesel Propulsion Engines (Ranging in Horsepower from 150-4,000).

SIN 260 10—Marine Craft Electronics.

SIN 260 11—Marine Craft Trailers and Trailer Accessories/Spare Parts.

SIN 260 12 - Floating Marine Barriers and Booms, Floats, Perimeter Floats, and Moorings.

SIN 260 13—Marine Craft Modifications, Marine Craft Repair and Marine Craft Spare Parts.

SIN 260 14—Harbor/Waterfront Security Products and Services and Professional Marine Security Services.

SIN 260 98 - Ancillary Services Relating to Marine Craft Systems.

SIN 260 99 - Introduction of New Products and Services Items Directly Related to Marine Equipment.

Special Purpose Clothing.

SIN 633 1 - Gloves Industrial, Work and Cold Weather Gloves.

SIN 633 15 - Rainwear. Lightweight Rainwear.

SIN 633 16 - Footwear. Men's Over-the-Sock Boots (Work, Uniform, Sport) and Women's Over-the-Sock Boots (Work, Uniform, Sport).

SIN 633 18 - Footwear. Men's or Women's Overshoes, Rubber.

SIN 633 19 - Footwear. Men's Safety Toe Shoes or Boots and Women's Safety Toe Shoes or Boots.

SIN 633 21A - Shipboard/Aircraft Anti-Exposure Immersion Clothing Not Otherwise Covered.

SIN 633 22 - Extreme Cold Weather Clothing. Coats, Jackets, Vests, Hoods and Hats.

SIN 633 23 - Extreme Cold Weather Clothing. Overalls, Coveralls, Pants, Insulated.

SIN 633 25 - Footwear. Boots, Insulated, Waterproof, Extreme Cold Weather.

SIN 633 26 - Special Purpose Work clothes. Disposable Clothing.

SIN 633 27 - Special Purpose Work clothes. Coveralls, General Purpose, Detainee Clothing.

SIN 633 30 - Structural Fire Fighting Clothing. Coat, Turnout, Proximity; Trousers, Proximity; Helmets, Proximity.

SIN 633 30A - Structural Fire Fighting Clothing. Coat, Turnout, Proximity; Trousers, Proximity; Helmets, Proximity.

SIN 633 32 - Structural Fire Fighting Clothing. Boots, Bunker and Hip.

SIN 633 33 - Structural Fire Fighting Clothing. Gloves.

SIN 633 35 - Structural Fire Fighting Clothing. Protective Hoods.

SIN 633 37 - Structural Fire Fighting Clothing. Fire Fighter's Station Wear.

SIN 633 38 - Wildland Fire Fighting Clothing - Personal Protection. Shirts and Pants (BDU's) NFPA 1977 Compliant.

SIN 633 39 - Wildland Fire Fighting Clothing - Personal Protection. Brush Shirts, Pants, Coats, Jackets, Jumpsuits - NFPA 1977 Compliant. Shirts, Pants, coats, Jumpsuits, coveralls - Flame Resistant. Not NFPA Compliant.

SIN 633 4 - Protective Worksuits, Waterproof, Chemical and Electrical Safety. Jackets, Coats and Hoods.

SIN 633 40 - Flotation Devices. Personal Flotation Devices, Coast Guard Approved Under 46 CFR 160.064; and Personal Flotation Devices Not Coast Guard Approved.

SIN 633 43 - Wildland Fire Fighting Clothing - Personal Protection. Helmets, Safety, Wildfire - NFPA 1977 Compliant.

SIN 633 45 - Wildland Fire Fighting Clothing - Personal Protection. Helmets, Safety, Electrical Construction (Welder's).

SIN 633 47 - Security Wear, EMS Clothing and Related Products.

SIN 633 48 - High Visibility, Reflective Safety Products.

SIN 633 49 - Medical/Hospital Clothing.

SIN 633 50 - Industrial Work Shirts and Pants.

SIN 633 51—Concealment Clothing, Camouflage Clothing and BDUs.

SIN 633 52—Miscellaneous Footwear Accessories.

SIN 633 6 - Protective Worksuits, Waterproof, Chemical and Electrical Safety.

SIN 633 6A - Emergency Response/Hazmat Clothing and Related Products.

SIN 633 60—Miscellaneous Undergarments for use with Special Purpose Clothing.

SIN 633 61—Special Purpose Clothing not elsewhere covered under this Schedule.

SIN 633 70—Cool/Hot Products.

SIN 633 99 - Introduction of New Products/Services relating to Special Purpose Clothing.

Cooperative Purchasing Data.

GSA seeks to continually improve the quality of its data on cooperative purchasing activity under the FSS/MAS Program. Enhanced information on the buying trends of non-federal purchases will help GSA and other Federal agencies better understand how states and localities are using the FSS/MAS Program to facilitate key objectives of cooperative purchasing. One such objective is greater interoperability between Federal, state, and local infrastructures to achieve improved preparedness for emergencies. More detailed data will also allow GSA to more effectively monitor the impact of cooperative purchasing, including changes, if any, in: (i) small business participation; (ii) access for federal customers; and (iii) GSA's ability to negotiate favorable pricing and terms and conditions. Currently, GSA collects sales data through both quarterly vendor reports based on the Industrial Funding Fee report and GSA Advantage, GSA'S online purchasing tool. GSA welcomes public comment on expanding the use and/or functionality of GSA Advantage or another system or process that allows additional collection of information at the transaction level to provide additional insight regarding the impact of the Cooperative Purchasing Program.

This is not a significant regulatory action and, therefore, was not subject to review under Section 6(b) of Executive Order 12866, Regulatory Planning and Review, dated September 30, 1993. This rule is not a major rule under 5 U.S.C. 804.

B. Regulatory Flexibility Act

The changes may have a significant economic impact on a substantial number of small entities within the meaning of the Regulatory Flexibility Act, 5 U.S.C. 601 et seq., because the interim rule will affect large and small entities including small businesses that are awarded Schedule 84 contracts, under the GSA Federal Supply Schedule program; non-schedule contractors, including small businesses, contracting with State or local governments; and small governmental jurisdictions that will be eligible to place orders under Schedule 84 contracts. The analysis is as follows:

An Initial Regulatory Flexibility Analysis (IRFA) has been prepared. The analysis is summarized as follows:

1. Description of the reasons why action by the agency is being considered.

To implement Pub.L. 110-248, The Local Preparedness Acquisition Act. The Act amends section 502 of Title 40, United States Code, to authorize the Administrator of General Services to provide for the use by State or local governments of Federal Supply Schedules of the General Services Administration (GSA) for alarm and signal systems, facility management systems, firefighting and rescue equipment, law enforcement and security equipment, marine craft and related equipment, special purpose clothing, and related services (as contained in Federal supply classification code group 84 or any amended or subsequent version of that Federal supply classification group). The rule opens the Federal Supply Schedule 84 for use by other governmental entities to enhance intergovernmental cooperation.

2. Succinct statement of the objectives of, and legal basis for the interim rule.

The interim rule will implement Pub.L. 110-248, The Local Preparedness Acquisition Act with the objective of opening the Federal Supply Schedule 84 for use by other governmental entities to enhance intergovernmental cooperation. The goal of the new rule is to make “government” (considering all levels) more efficient by reducing duplication of effort and utilizing volume purchasing techniques for the acquisition of law enforcement, security, and certain other related items.

3. Description of, and where feasible, estimate of the number of small entities to which the interim rule will apply.

The rule will affect large and small entities including small businesses, that are awarded Schedule 84 contracts, under the GSA Federal Supply Schedule program; non-schedule contractors, including small businesses, contracting with State or local governments; and small governmental jurisdictions that will be eligible to place orders under Schedule 84. In Fiscal Year 2007, approximately 85 percent (1,061) of GSA Schedule 84 contractors were small businesses, and approximately 54 percent ($1,206,816,656) of Schedule 84 contract sales were reported as small business. All of the small business Schedule 84 contractors will be allowed, at the Schedule contractor's option, to accept orders from State and local governments. Obviously, the expanded authority to order from Schedule 84 could increase the sales of small business Schedule contractors. As an example, the Schedule 70 Cooper- ative Purchasing contract sales reported by small businesses between Fiscal Year 2004 and Fiscal Year 2007 increased from approximately $33.1 million to $98.3 million. This represented an average of 42 percent of the total Schedule 70 Cooperative Purchasing contract sales.

It is difficult to identify the number of non-schedule small businesses that currently sell directly to State and local governments. The ability of governmental entities to use Schedule 84 may affect the competitive marketplace in which those small businesses operate. State and local government agencies could realize lower prices on some products and services, less administrative burden and shortened procurement lead times. The rule does not affect or waive State or local government preference programs. Finally, small governmental jurisdictions will also be affected. Counties, incorporated municipalities, minor subdivisions, public housing authorities, school districts, public educational institutions of higher learning, and Indian tribal governments would be among those affected if they chose to order from Schedule 84 contracts. Federal Supply Schedule contracts are negotiated as volume purchase agreements, with generally very favorable pricing. The ability of small governmental entities to order from Schedule 84 holds out the potential for significant cost savings for those organizations.

4. Description of projected reporting, recordkeeping, and other compliance requirements of the rule, including an estimate of the classes of small entities that will be subject to the requirement and the type of professional skills necessary for preparation of the report or record.

The interim rule makes changes in certain provisions or clauses in order to recognize the fact that authorized non-federal ordering activities may place orders under the contract. The Office of Management and Budget under the Paperwork Reduction Act has previously approved these clauses and the changes do not impact the information collection or recordkeeping requirements.

5. Identification, to the extent practicable, of all relevant Federal rules that may duplicate, overlap or conflict with the rule.

The interim rule does not duplicate, overlap, or conflict with any other Federal rules.

6. Description of any significant alternatives to the interim rule that accomplish the stated objectives of applicable statutes and that minimize any significant economic impact of the rule on small entities.

There are no practical alternatives that will accomplish the objective of this rule.

The Regulatory Secretariat has submitted a copy of the IRFA to the Chief Counsel for Advocacy of the Small Business Administration. Interested parties may obtain a copy from the Regulatory Secretariat. The Councils will consider comments from small entities concerning the affected FAR Parts 511, 516, 532, 538, 546, and 552 in accordance with 5 U.S.C. 610. Interested parties must submit such comments separately and should cite 5 U.S.C. 601, et seq. (GSAR case 2008-G517), in all correspondence.

C. Paperwork Reduction Act

The Paperwork Reduction Act does apply; however, these changes to the FAR do not impose additional information collection requirements to the paperwork burden previously approved under OMB Control Number 3090-0250.

D. Determination to Issue an Interim Rule

A determination has been made under the authority of the Administrator of General Services (GSA) that urgent and compelling reasons exist to promulgate this interim rule without prior opportunity for public comment. This action is necessary to implement Pub.L. 110-248, The Local Preparedness Acquisition Act. The Act was signed and became effective June 26, 2008. In addition, this interim rule will provide immediate access to Schedule 84 items (e.g., firefighting and rescue equipment, first responder gear and kits, law enforcement and security equipment) that may be critical to meet the public safety and homeland security needs of State and local governments during hurricanes, fires and incidents related to homeland security. Further, implementation of this interim rule is an incremental expansion of the Cooperative Purchasing Program where the processes and procedures are well established and have been the subject of prior rulemakings. However, pursuant to Public Law 98-577 and FAR 1.501, the Councils will consider public comments received in response to this interim rule in the formation of the final rule.

List of Subjects in 48 CFR Parts 511, 516, 532, 538, 546, and 552.

Government procurement.

Dated: September 15, 2008.
David A. Drabkin,
Senior Procurement Executive, Office of the Chief Acquisition Officer, General Services Administration.

Therefore, GSA amends 48 CFR parts 511, 516, 532, 538, 546, and 552 as set forth below:

1. The authority citation for 48 CFR parts 511, 516, 532, 538, 546, and 552 continues to read as follows:

Authority: 40 U.S.C. 121(c).

PART 511—DESCRIBING AGENCY NEEDS

2. Amend section 511.204 by revising paragraphs (c)(3) and (d) to read as follows:

511.204 Solicitation provisions and contract clauses.

* * * * *

(c) * * *

(3) Include the clause at 552.211-75, Preservation, Packaging and Packing, in solicitations and contracts for supplies expected to exceed the simplified acquisition threshold. You may also include the clause in contracts estimated to be at or below the simplified acquisition threshold when appropriate. Use Alternate I in solicitations and contracts for—

(i) Federal Supply Schedule 70;

(ii) The Consolidated Schedule containing information technology Special Item Numbers;

(iii) Federal Supply Schedule 84; and

(iv) Federal Supply Schedules for recovery purchasing (see 538.7102).

* * * * *

(d) Supply contracts. Include the clause at 552.211-77, Packing List, in solicitations and contracts for supplies, including purchases over the micropurchase threshold. Use Alternate I in solicitations and contracts for—

(1) Federal Supply Schedule 70;

(2) The Consolidated Schedule containing information technology Special Item Numbers;

(3) Federal Supply Schedule 84; and

(4) Federal Supply Schedules for recovery purchasing (see 538.7102).

PART 516—TYPES OF CONTRACTS

3. Amend section 516.506 by revising paragraph (c) to read as follows:

516.506 Solicitation provisions and contract clauses.

* * * * *

(c) Use 552.216-72, Placement of Orders, Alternate III, instead of Alternate II in solicitations and contracts for—

(1) Federal Supply Schedule 70;

(2) The Consolidated Schedule containing information technology Special Item Numbers; and

(3) Federal Supply Schedule 84.

* * * * *

PART 532—CONTRACT FINANCING

4. Amend section 532.206 by revising paragraphs (a) and (b) to read as follows:

532.206 Solicitation provisions and contract clauses.

(a) Discounts for prompt payment. Include 552.232-8, Discounts for Prompt Payments, in multiple award schedule solicitations and contracts instead of the clause at Federal Acquisition Regulation 52.232-8. Use Alternate I in solicitations and contracts for—

(1) Federal Supply Schedule 70;

(2) The Consolidated Schedule containing information technology Special Item Numbers (SINs); or

(3) Federal Supply Schedule 84; and

(4) Federal Supply Schedules for recovery purchasing (see 538.7102).

(b) The contracting officer shall insert the clause at 552.232-81, Payments by Non-Federal Ordering Activities, in solicitations and schedule contracts for—

(1) Federal Supply Schedule 70;

(2) The Consolidated Schedule contracts containing information technology SINs;

(3) FSS Schedule 84; and

(4) Federal Supply Schedules for recovery purchasing (see 538.7102).

* * * * *

5. Amend section 532.7003 by revising paragraphs (b) and (c) to read as follows:

532.7003 Contract clause.

* * * * *

(b) Federal Supply Service contracts. Use Alternate I of the clause at 552.232-77 for all Federal Supply Schedule solicitations and contracts, except for—

(1) Federal Supply Schedule 70, Information Technology;

(2) The Consolidated Schedule contracts containing information technology Special Item Numbers;

(3) Federal Supply Schedule 84; and

(4) Federal Supply Schedule contracts for recovery purchasing (see 538.7102).

(c) Use 552.232-79 instead of 552.232-77 in solicitations and contracts for—

(1) Federal Supply Schedule 70;

(2) The Consolidated Schedule containing information technology Special Item Numbers;

(3) Federal Supply Schedule 84; and

(4) Federal Supply Schedule contracts for recovery purchasing (see 538.7102).

PART 538—FEDERAL SUPPLY SCHEDULE CONTRACTING

6. Amend section 538.273 by revising paragraphs (a)(2) and (b)(2) to read as follows:

538.273 Contract clauses.

(a) * * *

(2) 552.238-71, Submission and Distribution of Authorized FSS Schedule Pricelists.

(i) Use Alternate I, in solicitations and contracts for—

(A) Federal Supply Schedule 70;

(B) The Consolidated Schedule contracts containing information technology Special Item Numbers;

(C) Federal Supply Schedule 84; and

(D) Federal Supply Schedules for recovery purchasing (see 538.7102), use Alternate I.

(ii) If GSA is not prepared to accept electronic submissions for a particular schedule delete—

(A) The paragraph identifier “(i)” in (b)(1) and the word “and” at the end of paragraph (b)(1)(i); and

(B) Paragraphs (b)(1)(ii) and (b)(3).

* * * * *

(b) * * *

(2) 552.238-75, Price Reductions. Use Alternate I in solicitations and contracts for—

(i) Federal Supply Schedule 70;

(ii) The Consolidated Schedule containing information technology Special Item Numbers;

(iii) Federal Supply Schedule 84; and

(iv) Federal Supply Schedules for recovery purchasing (see 538.7102).

7. Revise section 538.7000 to read as follows:

538.7000 Scope of subpart.

This subpart prescribes policies and procedures that implement statutory provisions authorizing non-federal organizations to use—

(a) Federal Supply Schedule 70;

(b) The Consolidated Schedule contracts containing information technology Special Item Numbers (SINs); and

(c) Federal Supply Schedule 84.

8. Amend section 538.7001 by adding, in alphabetical order, the definition “Schedule 84” to read as follows:

538.7001 Definitions.

* * * * *

Schedule 84 means the Federal Supply Schedule for alarm and signal systems, facility management systems, firefighting and rescue equipment, law enforcement and security equipment, marine craft and related equipment, special purpose clothing, and related services (as contained in Federal Supply Classification Code Group 84 or any amended or subsequent version of that Federal supply classification group).

* * * * *

9. Amend section 538.7002 by redesignating paragraph (c) as paragraph (d); by adding a new paragraph (c); and by revising the newly designated paragraph (d) to read as follows:

538.7002 General.

* * * * *

(c) Pub.L. 110-248, The Local Preparedness Acquisition Act, authorizes the Administrator of General Services to provide for the use by state or local governments of Federal Supply Schedules of the General Services Administration (GSA) for alarm and signal systems, facility management systems, firefighting and rescue equipment, law enforcement and security equipment, marine craft and related equipment, special purpose clothing, and related services (as contained in Schedule 84).

(d) State and local governments are authorized to procure from Schedule 70 contracts, Consolidated Schedule contracts containing information technology SINs, and Schedule 84 contracts. A listing of the participating contractors and SINs for the products and services that are available through Schedule 70 contracts, the Consolidated Schedule contracts containing information technology SINs, and Schedule 84 contracts, is available in GSA's Schedules e-Library at www.gsa.gov/elibrary. Click on Schedules e-Library, and under Cooperative Purchasing, click on “View authorized vendors.” The contractors and the products and services available for Cooperative Purchasing will be labeled with the Cooperative Purchasing icon.

10. Amend section 538.7003 by revising the introductory paragraph to read as follows:

538.7003 Policy.

Preparing solicitations when schedules are open to eligible non-federal entities. When opening Schedule 70, the Consolidated Schedule containing information technology SINs, and Schedule 84, for use by eligible non-federal entities, the contracting officer must make minor modifications to certain Federal Acquisition Regulation and GSAM provisions and clauses in order to make clear distinctions between the rights and responsibilities of the U.S. Government in its management and regulatory capacity pursuant to which it awards schedule contracts and fulfills associated Federal requirements versus the rights and responsibilities of eligible ordering activities placing orders to fulfill agency needs. Accordingly, the contracting officer is authorized to modify the following FAR provisions/clauses to delete “Government” or similar language referring to the U.S. Government and substitute “ordering activity” or similar language when preparing solicitations and contracts to be awarded under Schedule 70, and the Consolidated Schedule containing information technology SINs, and Schedule 84. When such changes are made, the word “(DEVIATION)” shall be added at the end of the title of the provision or clause. These clauses include but are not limited to:

* * * * *

11. Revise section 538.7004 to read as follows:

538.7004 Solicitation provisions and contract clauses.

(a) The contracting officer shall insert the clause at 552.238-77, Definition (Federal Supply Schedules), in solicitations and contracts for—

(1) Schedule 70;

(2) The Consolidated Schedule containing information technology SINs; and

(3) Schedule 84.

(b) The contracting officer shall insert the clause at 552.238-78, Scope of Contract (Eligible Ordering Activities), in solicitations and contracts for—

(1) Schedule 70; and

(2) The Consolidated Schedule containing information technology SINs; and

(3) Schedule 84.

(c) The contracting officer shall insert the clause at 552.238-79, Use of Federal Supply Schedule Contracts by Certain Entities—Cooperative Purchasing, in solicitations and contracts for—

(1) Schedule 70;

(2) The Consolidated Schedule containing information technology SINs; and

(3) Schedule 84.

(d) See 552.101-70 for authorized FAR deviations.

PART 546—QUALITY ASSURANCE

12. Amend section 546.710 by revising paragraph (b) to read as follows:

546.710 Contract clauses.

* * * * *

(b) Multiple award schedules. Insert the clause at 552.246-73, Warranty—Multiple Award Schedule, in solicitations and contracts. Use Alternate I in solicitations and contracts for—

(1) Federal Supply Schedule 70;

(2) The Consolidated Schedule containing information technology Special Item Numbers;

(3) Federal Supply Schedule 84; and

(4) Federal Supply Schedules for recovery purchasing (see 538.7102).

* * * * *

PART 552—SOLICITATION PROVISIONS AND CONTRACT CLAUSES

13. Amend section 552.238-78 by revising the date of the clause and paragraph (d) to read as follows:

552.238-78 Scope of Contract (Eligible Ordering Activities).

* * * * *

SCOPE OF CONTRACT (ELIGIBLE ORDERING ACTIVITIES) (SEP 2008)

* * * * *

(d) The following activities may place orders against Schedule 70 contracts, and Consolidated Schedule contracts containing information technology Special Item Numbers, and Schedule 84 contracts, on an optional basis; PROVIDED, the Contractor accepts order(s) from such activities: State and local government, includes any state, local, regional or tribal government or any instrumentality thereof (including any local educational agency or institution of higher learning).

* * * * *

(End of clause)

[FR Doc. E8-21927 Filed 9-18-08; 8:45 am]

BILLING CODE 6820-61-S